DEPARTMENT OF DEFENSE

Office of the Secretary

[Transmittal No. 0M-15]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 0M-15 with attached Policy Justification.

Dated: November 23, 2015.
Aaron Siegel,
Alternate OSD Federal Register Liaison Officer, Department of Defense.

Transmittal No. 0M-15

REPORT OF ENHANCEMENT OR UPGRADE OF SENSITIVITY OF TECHNOLOGY OR CAPABILITY (SEC. 36(B)(5)(C), AECA)

(i) Purchaser: Government of Qatar (QA-B-UAP)

(ii) Sec. 36(b)(l), AECA Transmittal No.: 12-58

Date: 06 November 2012

Military Department: Army

(iii) Description: On 06 November 2012, Congress was notified by Congressional certification transmittal number 12-58, of the possible sale under Section 36(b)(1) of the Arms Export Control Act of 11 PATRIOT Configuration-3 Modernized Fire Units, 11 AN/MPQ-65 Radar Sets, 11 AN/MSQ-132 Engagement Control Systems, 30 Antenna Mast Groups, 44 M902 Launching Stations (LS), 246 PATRIOT MIM-104E Guidance Enhanced Missile—TBM (GEM-T) with canisters, 2 PATRIOT MIM-104E GEM-T Test Missiles, 768 PATRIOT Advanced Capability 3 (PAC-3) Missiles with canisters, 10 PAC-3 Test Missiles with canisters, 11 Electrical Power Plants (EPPII), 8 Multifunctional Information Distribution Systems/Low Volume Terminals (MIDS/LVTs), communications equipment, tools and test equipment, support equipment, publications and technical documentation, personnel training and training equipment, spare and repair parts, facility design, U.S. Government and contractor technical, engineering, and logistics support services, and other related elements of logistics and program support. The estimated total cost was $9.9 billion. Major Defense Equipment (MDE) constituted $7.2 billion of this total.

This transmittal reports the upgrade of 34 of the previously notified (and purchased) M902 LS, and the addition of 300 PAC-3 PATRIOT Advanced Capability (PAC)-3 Missile Segment Enhancement (MSE) missiles and 10 PAC-3 MSE test missiles. In order to support MSE Integration, the M902 LS will require a modification kit to achieve the M903 LS configuration. The addition of the PAC-3 MSEs and the M902 LS upgrades will result in an MDE net increase of $2.6 billion, and a non-MDE increase of $360 million. The revised estimated total value is $12.86 billion, with the revised MDE value constituting $9.8 billion of this new total.

(iv) Significance: The LS M903 allows the PATRIOT system to fire PAC-3 MSE missiles.

The changes to the launcher for the M903 configuration are to account for the necessary cabling for power and signal interfaces with the PAC-3 MSE missiles. In order to change the launcher from the M902 configuration to the M903 configuration, the following items are added: Additional distribution cables, additional umbilical cables, addition of a stowage box for storage of cables mentioned above, and the addition of a grounding cable. The PAC-3 MSE missile capability will allow for further and higher Tactical Ballistic Missile intercepts. This equipment will enhance Qatar's interoperability with the United States and its allies, making it a more valuable partner in an increasingly important area of the world. Qatar should have no difficulty including the PAC-3 MSE and the upgrade to M903 LS into its armed forces.

(v) Justification: This notification is being provided as the PAC-3 MSE was not specified in the original notification because the technology was not yet releasable to FMS customers and the M903 LS kit was not available/developed. This proposed sale will contribute to the foreign policy and national security of the United States by helping to improve the security of a strategic partner. The PAC-3 MSE and the M903 LS kit will significantly improve Qatar's defense capabilities to meet current and future threats and deter regional aggression.

(vi) Date Report Delivered to Congress: 4 NOV 2015

[FR Doc. 2015-30176 Filed 11-25-15; 8:45 am]

BILLING CODE 5001-06-P